DEPARTMENT OF ENERGY

Federal Energy Regulatory Commission

[Docket Nos. RP01-445-001 and CP97-26-004]

Trunkline LNG Company; Notice of Offer of Settlement

August 10, 2001.

Take notice that on August 1, 2001, pursuant to Rule 602 of the Commission's Rules of Practice and Procedure (Rule 602), Trunkline LNG Company (TLNG) tendered for filing an Offer of Settlement (Proposed Settlement) with respect to the proceedings in Docket Nos. RP01-445-000 ¹ and CP97-26-000.² TLNG states that no aspect of the proceedings affected by the Proposed Settlement are pending before an Administrative Law Judge. TLNG asserts that, in view of this, as provided by Rule 602, its Proposed Settlement should be transmitted by the Office of the Secretary to the Commission. TLNG's filing includes a Stipulation and Agreement, copies of pro forma tariff sheets setting forth the changes proposed to TLNG's currently effective tariff sheets, a separate explanatory statement, and a statement of references to testimony, exhibits, decision, and other matters relevant to the Proposed Settlement.

¹ TLNG's filing in Docket No. RP01-445-000 is a rate study justifying its currently effective rates that TLNG filed with the Commission to comply with Ordering Paragraph (D) of the Commission's November 3, 1997 Order Issuing Certificate, Trunkline LNG Company, 81 FERC ¶ 61,147 (1997), as clarified by the Commission's February 27, 1998 Order Denying Rehearing, 82 FERC ¶ 61,198 (1998).

² The proceeding in Docket No. CP97-26-000 resulted in the Commission's issuance of a Certificate under Subpart G of Part 284 of the Commission's Regulations, authorizing TLNG to provide firm and interruptible LNG terminalling service. See: November 3, 1997 Order Issuing Certificate, Trunkline LNG Company, 81 FERC ¶ 61,147 (1997), as clarified by the Commission's February 27, 1998 Order Denying Rehearing, 82 FERC ¶ 61,198 (1998).

The Proposed Settlement is sponsored jointly by TLNG and TLNG's only two long-term firm customers—BG LNG Services, Inc. (BG LNG) and Duke Energy LNG Sales, Inc. (Duke LNG). If approved by the Commission, the Proposed Settlement will take effect January 1, 2002 and extend until the year 2022. TLNG states that the Proposed Settlement provides for a substantial reduction in its rates, and that the reduced rates will not be subject to change and will remain in effect until the year 2015.

A copy of the Settlement is on file with the Commission and is available for public inspection in the Public Reference Room. The Settlement may be viewed on the web at http://www.ferc.fed.us/online/rims.htm (call 202-208-2222 for assistance).

In accordance with Section 385.602(f), initial comments are due by August 21, 2001, and any reply comments are due by August 31, 2001.

Linwood A. Watson, Jr.,
Acting Secretary.

[FR Doc. 01-20620 Filed 8-15-01; 8:45 am]

BILLING CODE 6717-01-P